DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 05-033. Applicant: Seton Hall University, 400 South Orange Avenue, South Orange, NJ 07079. Instrument: Excimer Laser, Model ThinFilmStar. Manufacturer: Tuilaser, AG, Germany. Intended Use: The instrument is intended to be used to study the pulsed laser deposition of thin films and their subsequent characterization using high dielectric constant oxides and similar materials. It will also be used to investigate pulsed laser depostion as a tool to deposit metal nanoparticle thin films, colossal magnetoresistive materials and polymers.

Application accepted by Commissioner of Customs: July 25, 2005.

Gerald A. Zerdy,
Program Manager, Statutory Import Programs Staff.

[FR Doc. E5-4250 Filed 8-5-05; 8:45 am]

BILLING CODE 3510-DS-P